DEPARTMENT OF THE INTERIOR

U.S. Geological Survey

Agency Information Collection Activities: Submitted for Office of Management and Budget (OMB) Review; Comment Request on Extension of Existing Information Collection

AGENCY: U.S. Geological Survey (USGS), Interior.

ACTION: Notice; request for comments.

SUMMARY: We (U.S. Geological Survey) have sent an Information Collection Request (ICR) to OMB for review and approval. The ICR, which is summarized below, describes the nature of the collection and the estimated burden and cost. This ICR is scheduled to expire on November 14, 2008. We may not conduct or sponsor and a person is not required to respond to a collection of information unless it displays a currently valid OMB control number. However, under OMB regulations, we may continue to conduct or sponsor this information collection while it is pending at OMB.

DATE: You must submit comments on or before December 24, 2008.

ADDRESSES: Send your comments on this information collection directly to the Office of Management and Budget (OMB), Office of Information and Regulatory Affairs, Attention: Desk Officer for the Department of the Interior via OMB e-mail: (OIRA_DOCKET@omb.eop.gov); or by fax (202) 395-6566; and identify your submission with #1028-0048.

Please submit a copy of your comments to the Phadrea Ponds, Information Collections, U.S. Geological Survey, 2150-C Center Avenue, Fort Collins, CO 80525 (mail); (970) 226-9230 (fax); or FAX: pponds@usgs.gov (e-mail). Use Information Collection Number 1028-0048 in the subject line.

FOR FURTHER INFORMATION CONTACT: To request additional information about this ICR, contact Jim Dewey at (303) 274-8419.

SUPPLEMENTARY INFORMATION: OMB Control Number: 1028-0048.

Title: USGS Earthquake Report.

Type of Request: Revision of a currently approved collection.

Affected Public: General Public.

Respondent Obligation: Voluntary.

Frequency of Collection: On occasion, after an earthquake.

Estimated Completion Time: 6 minutes.

Estimated Annual Number of Respondents: 200,000.

Note: We have recalculated our estimated number of responses requested in our 60 day FR notice (73 FR 53267) from 100,000 to 200,000 responses. This recalculation is based on our experience with the data compiled over the three year period (2005-2008), during which we had many more responses than we anticipated in 2005.

Estimated Annual Burden Hours: 20,000 hours.

Note: We have recalculated our estimated number of responses requested in our 60 day FR notice (73 FR 53267) from 10,000 to 20,000 hours. Assuming that 200,000 respondents will each spend 6 minutes responding to the proposed information collection the total adjusted hour burden will be 20,000 hours.

Abstract: The collection of information applies to a World-Wide Web site questionnaire that permits individuals to report on the effects of the shaking from an earthquake—on themselves personally, buildings, other man-made structures, and ground effects such as faulting or landslides. The USGS may use the information to provide qualitative, quantitative, or graphical descriptions of earthquake damage.

We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We will release data collected on these forms only in a summary format that is not company-specific.

Comments: To comply with the public consultation process, on September 14, 2008, we published a Federal Register notice (73 FR 53267) announcing our intent to submit this information collection to OMB for approval. In that notice we solicited public comments for 60 days, ending on November 14, 2008. We did not receive any comments concerning the notice.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done.

USGS Information Collection Clearance Contact: Phadrea Ponds, 970-226-9445.

Dated: November 17, 2008.
Suzette M. Kimball,
Associate Director for Geology.

[FR Doc. E8-27825 Filed 11-21-08; 8:45 am]

BILLING CODE 4311-AM-P